COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add product(s) to the Procurement List that will be furnished by nonprofit agencies employing persons who are blind or have other severe disabilities, and deletes product(s) and service(s) previously furnished by such agencies.

DATES: Comments must be received on or before: October 15, 2023.

ADDRESSES: Committee for Purchase From People Who Are Blind or Severely Disabled, 355 E Street SW, Suite 325, Washington, DC 20024.

FOR FURTHER INFORMATION CONTACT: For further information or to submit comments contact: Michael R. Jurkowski, telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product(s) listed below from nonprofit agencies employing persons who are blind or have other severe disabilities.

The following product(s) are proposed for addition to the Procurement List for production by the nonprofit agencies listed:

Product(s)

NSN(s)—Product Name(s): 5180-01-563-7475—Tool Kit, Artillery and Turret (ATTK)

Designated Source of Supply: Industries for the Blind and Visually Impaired, Inc., West Allis, WI

Contracting Activity: Defense Logistics Agency, DLA Aviation

Distribution: C-List

Mandatory for: 100% of the requirement of the Department of Defense

Deletions

The following product(s) and service(s) are proposed for deletion from the Procurement List:

Product(s)

NSN(s)—Product Name(s):

7530-01-618-8427—Cover, Record Book, Digital Camouflage, 6″ x 9″

7510-01-053-5591—Portfolio, Writing, Economy, Black, 9″ x 6⅛″

7510-00-145-0296—Portfolio, Writing, Economy, Black, 12⅛″ x 9½″

7510-01-557-4969—Portfolio, Note Pad Holder, Custom Logo, 6″ x 9″

7510-01-557-4970—Portfolio, Pocket, with Pad, Camouflage, 4″ x 6″

7510-01-557-4979—Portfolio, Note Pad Holder, Army Logo, Camouflage, 6″ x 9″

7510-01-557-4977—Pad Holder Portfolio, Standard, Digital Camouflage, Letter Size

7510-01-557-4978—Portfolio, Note Pad Holder, Camouflage, 6″ x 9″

7510-01-600-8651—Portfolio, Pocket, with Pad, Camouflage, 6″ x 9″

7510-01-557-4980—Portfolio, Pad Holder, Deluxe, Brass Clip and Corners, Camouflage, 6″ x 9″

7510-01-557-4981—Pad Holder Portfolio, Deluxe, Brass Clip and Corners, Digital Camouflage, Letter Size

7510-01-483-8891—Portfolio, Note Pad Holder, Burgundy, 6″ x 9″

7510-01-483-8895—Pad Holder Portfolio, Standard, Burgundy, Letter Size

7510-01-483-8897—Portfolio, Pad Holder, Deluxe, Brass Clip and Corners, Burgundy, 6″ x 9″

7510-01-483-8899—Portfolio, Pad Holder, Deluxe, Brass Clip and Corners, Black, 6″ x 9″

7510-01-483-8890—Portfolio, Note Pad Holder, Black, 6″ x 9″

7510-01-483-8892—Pad Holder Portfolio, Deluxe, Brass Clip and Corners, Burgundy, Letter Size

7510-01-483-8894—Pad Holder Portfolio, Deluxe, Brass Clip and Corners, Black, Letter Size

7510-01-484-0004—Pad Holder Portfolio, Standard, Black, Letter Size

Designated Source of Supply: Dallas Lighthouse for the Blind, Inc., Dallas, TX

Contracting Activity: GSA/FAS ADMIN SVCS ACQUISITION BR (2, NEW YORK, NY

Service(s)

Service Type: Sourcing, Warehousing, Assembly, and Kitting

Mandatory for: USPFO Connecticut, National Guard Bureau, National Guard Armory, 360 Broad Street, Hartford, CT

Designated Source of Supply: Industries for the Blind and Visually Impaired, Inc., West Allis, WI

Contracting Activity: DEPT OF THE ARMY, W7MZ USPFO ACTIVITY CT ARNG

Service Type: Furniture Design, Configuration and Installation

Mandatory for: USPFO Connecticut, National Guard Bureau, National Guard Armory, 360 Broad Street, Hartford, CT

Designated Source of Supply: Industries for the Blind and Visually Impaired, Inc., West Allis, WI

Contracting Activity: DEPT OF THE ARMY, W7MZ USPFO ACTIVITY CT ARNG

Michael R. Jurkowski,
Acting Director, Business Operations.

[FR Doc. 2023-20008 Filed 9-14-23; 8:45 am]

BILLING CODE 6353-01-P